DEPARTMENT OF THE INTERIOR

Fish and Wildlife Service

Notice of Availability of the Final Comprehensive Plan and Finding of No Significant Impact for D'Arbonne National Wildlife Refuge in Union and Ouachita Parishes, LA

AGENCY: Fish and Wildlife Service, Interior.

ACTION: Notice of availability.

SUMMARY: The Fish and Wildlife Service announces that a Final Comprehensive Conservation Plan and Finding of No Significant Impact for D'Arbonne National Wildlife Refuge in Union and Ouachita Parishes are available for distribution. The plan was prepared pursuant to the National Wildlife Refuge System Improvement Act of 1997, and in accordance with the National Environmental Policy Act of 1969, and describes how the refuge will be managed for the next 15 years. The compatibility determinations for big game hunting, small game hunting, migratory bird hunting, fishing, wildlife observation and photography, environmental education and interpretation, trapping of selected furbearers, and horseback riding are also available within the plan.

ADDRESSES: A copy of the plan may be obtained by writing to the D'Arbonne National Wildlife Refuge, 11372 Highway 143, Farmerville, Louisiana 71241. The plan may also be accessed and downloaded from the Service's Web site http://southeast.fws.gov/planning/.

SUPPLEMENTARY INFORMATION: D'Arbonne National Wildlife Refuge, established in 1975, is located within the Lower Mississippi River floodplain in north Louisiana, approximately six miles of West Monroe, Louisiana. The refuge's 17,421 acres include deep overflow swamp, bottomland hardwood forest, and upland mixed-pine/hardwoods. D'Arbonne Refuge provides habitat for thousands of wintering waterfowl, wading and waterbirds, and year-round habitat for nesting wood ducks, squirrels, deer, river otters, and raccoons. Hunting and fishing opportunities are permitted on most areas of the refuge, which is open year-round for wildlife observation and wildlife photography.

The availability of the Draft Comprehensive Conservation Plan and Environmental Assessment for a 30-day public review and comment period was announced in the Federal Register on April 11, 2006 (71 FR 18348). The plan and environmental assessment identified and evaluated three alternatives for managing the refuge over the next 15 years. Alternative A, the proposed alternative, emphasized natural ecological processes, enhancement of the biological program, restoration of biological integrity with management for endangered species, and more use of adaptive management primarily to benefit migratory birds and forests. Alternative B would focus resources toward obtaining biological information while providing an artificial habitat for the endangered red-cockaded woodpecker. There would be a reduction in visitor services. Alternative C, the “status quo” alternative, would continue management and public use.

Based on the environmental assessment and the comments received, the Service adopted Alternative A as its preferred alternative. This alternative was considered to be the most effective for meeting the purposes of the refuge—that of conserving bottomland hardwood forest for migratory birds and for providing wildlife-dependent public use. Alternative A best achieves national, ecosystem, and refuge-specific goals and objectives and positively addresses significant issues and concerns expressed by the public.

FOR FURTHER INFORMATION CONTACT: Kelby Ouchley, Refuge Manager, D'Arbonne National Wildlife Refuge, telephone: 318/726-4222; fax: 318/726-4667; e-mail: Kelby_Ouchley@fws.gov; or by writing to the Refuge Manager at the addresses in the addresses section.

Authority: This notice is published under the authority of the National Wildlife Refuge System Improvement Act of 1997, Public Law 105-57.

Dated: June 29, 2006.
Cynthia K. Dohner,
Acting Regional Director.

[FR Doc. 06-9344 Filed 11-21-06; 8:45 am]

BILLING CODE 4310-55-M